DEPARTMENT OF TRANSPORTATION

Federal Aviation Administration

14 CFR Part 71

[Docket No. FAA-2012-0662; Airspace Docket No. 08-AWA-2]

RIN 2120-AA66

Modification of Class B Airspace; Philadelphia, PA

AGENCY: Federal Aviation Administration (FAA), DOT.

ACTION: Final rule.

SUMMARY: This action modifies the Philadelphia, PA, Class B airspace area to ensure the containment of large turbine-powered aircraft within Class B airspace, reduce controller workload, and reduce the potential for midair collision in the Philadelphia terminal area.

DATES: Effective Date: 0901 UTC, July 25, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

The FAA published in the Federal Register a notice of proposed rulemaking (NPRM) to modify the Philadelphia, PA, Class B airspace area (77 FR 45290, July 31, 2012). Interested parties were invited to participate in this rulemaking effort by submitting written comments on the proposal. Three comments were received in response to the NPRM. The FAA considered all comments received before making a determination on this final rule.

Discussion of Comments

All three commenters expressed concern over the effect of expanding the PHL Class B to the east and southeast. One commenter was concerned by the possible effect on a busy VFR flyway, and by the funnel effect of having only 1000 feet vertically between the modified Class B and Alert Area A-220. Another commenter was concerned that more complicated airspace, combined with a bad economy and the high cost of flight training, would discourage student pilots from completing their training. The third commenter suggested that enough lateral space be provided between the edge of Alert Area A-220 and the PHL Class B boundary to allow the two-way VFR flyway to continue.

The FAA agrees that the airspace east of PHL is congested and used for many varying aviation activities, and it shares the desire to design the airspace to minimize the possibility of incidents. However, the suggestion to leave room for a VFR flyway between A-220 and the Class B would leave the airspace boundary essentially where it is today. The current corridor is only 4 miles wide. Providing a VFR flyway as requested would preclude expanding the Class B airspace in an area needed so that PHL can properly contain arrivals on the downwind or final approach. Raising the Class B floor to make additional altitudes available for VFR flight is also not a viable option. PHL arrivals on the base leg outside 20 NM from the airport will be at, or descending to, 4,000 feet, making a 4,000 foot Class B airspace floor necessary in that area to achieve the containment of aircraft.

Mixing PHL arrivals and VFR aircraft outside the Class B presents a hazard to safety, which must be addressed. We believe that the Class B design in this rule provides the minimum airspace required for containment while leaving as much airspace as possible for VFR flight outside the Class B.

The Aircraft Owners and Pilots Association (AOPA) expressed concern that the number of cutouts and varying floor heights, combined with a lack of VFR landmarks, results in a complex design which VFR pilots will find confusing, and may result in airspace violations, especially near PNE and ILG.

The FAA does not agree. The multiple Class B subareas on final approach to runways 9 and 27 at PHL are designed to afford VFR flights, electing to fly beneath the Class B, the maximum amount of altitude while keeping them separated from airspace and altitudes used by IFR arrivals to PHL. To reduce the number of subareas or varying Class B floors, it would be necessary to combine subareas and use the lower floor for the entire subarea. This would cause the designation of more Class B airspace than is required for containment and further limit airspace available for VFR use. There are a number of references that can be used to assist VFR pilot navigation. Seven VOR facilities basically encircle the PHL Class B airspace area and can be used to assist in orientation to circumnavigate the area. There are also various landmarks such as Interstate I-295, I-95/New Jersey Turnpike, charted airports and charted VFR checkpoints. VFR aircraft can navigate below, above, around, or request ATC clearance to proceed through, the Class B airspace area.

The two new subareas (F and H) to the east and west of PHL evolved from the elimination of the 24-NM outer ring around the majority of the Class B airspace area that was being considered by the FAA in the early stages of the PHL Class B design modification. As discussed in the NPRM, input from the ad hoc committee and informal airspace meetings requested that the 24-NM ring be eliminated. The FAA reevaluated the need for the expansion of the Class B to 24-NM and decided to limit the expansion to 24-NM only to the east and west of PHL in order to encompass the extended finals to the primary runways. These extensions are required to contain the high volume of turbine-powered aircraft landing at PHL while still allowing adequate room for VFR aircraft to circumnavigate the PHL Class B airspace.

The Rule

The FAA is amending Title 14 of the Code of Federal Regulations (14 CFR) part 71 to modify the Philadelphia, PA, Class B airspace area. This action (depicted on the attached chart) modifies the lateral and vertical limits (i.e., floors) of the Class B airspace area to ensure the containment of large turbine-powered aircraft once they enter the airspace, reduce frequency congestion and controller workload, and enhance safety in the Philadelphia terminal area. The ceiling of the Philadelphia Class B airspace area remains at 7,000 feet MSL. Mileages are in nautical miles and, unless otherwise noted, are based on a radius from the PHL airport reference point (ARP) (lat. 39°52′20″ N., long. 75°14′27″ W.). The modifications of the Philadelphia Class B airspace area, by subarea, are outlined below.

Area A. This area, extending upward from the surface to 7,000 feet MSL, is expanded from the current 6-mile radius to an 8-mile radius. A cutout is incorporated in the northeast quadrant of Area A to accommodate helicopter operations.

Area B. There are no changes to Area B, which extends from 300 feet MSL to 7,000 feet MSL.

Area C. This area, which extends from 600 feet MSL to 7,000 feet MSL, remains largely unchanged except that its boundaries are extended outward to meet the new 8-mile radius of Area A.

Area D. This area extends from 1,500 feet to 7,000 feet between the 8-mile and 11-mile rings around PHL, and includes an extension out to 15 miles to the east of PHL.

Area E. Area E extends from 2,000 feet MSL to 7,000 feet MSL between the 11-mile and 15-mile rings from PHL with a cutout around 17N. This rule lowers the Class B airspace floor in this area from 3,000 feet MSL to 2,000 feet MSL.

Area F. Area F consists of two sections between the 15-mile and 20-mile rings. One section is west of PHL and the other to the east of PHL. These sections both extend from 3,000 feet MSL to 7,000 feet MSL. The Area F section located to the east of PHL is new Class B airspace. The purpose of Area F is to contain arrivals to the primary runways at PHL.

Area G. This area extends from 3,500 feet MSL to 7,000 feet MSL. It generally lies between the 15-mile and 20-mile rings, excluding the airspace in Areas F and H. The current Class B floor in most of that area is 4,000 feet MSL. Area G also creates new Class B airspace out to 20 miles to the east and south of PHL with a cutout to accommodate operations at 17N.

Area H. This area consists of two sections, extending from 4,000 feet MSL to 7,000 feet MSL, between the 20-mile and 24-mile rings, one to the east and one to the west of PHL. Area H is new Class B airspace. Its purpose is to contain arrivals to the primary runways at PHL.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this rule.

Regulatory Evaluation Summary

Changes to federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a final rule does not warrant a full evaluation, this order permits that a statement to that effect and the basis for it be included in the preamble if a full regulatory evaluation of the cost and benefits is not prepared. Such a determination has been made for this final rule. The reasoning for this determination follows:

In conducting these analyses, the FAA has determined that this final rule:

(1) Imposes minimal incremental costs and provides benefits,

(2) Is not an economically “significant regulatory action” as defined in section 3(f) of Executive Order 12866,

(3) Is not significant as defined in DOT's Regulatory Policies and Procedures;

(4) Will not have a significant economic impact on a substantial number of small entities;

(5) Will not have a significant effect on international trade; and

(6) Will not impose an unfunded mandate on state, local, or tribal governments, or on the private sector by exceeding the monetary threshold identified.

These analyses are summarized below.

The Proposed Action

The action proposed in the NPRM, was to modify the Philadelphia, PA, Class B airspace area to ensure the containment of large turbine-powered aircraft within Class B airspace, reduce controller workload, and reduce the potential for midair collision in the Philadelphia terminal area.

Benefits of the Proposed Action

As discussed in the NPRM, this action would enhance safety, improve the flow of air traffic, and reduce the potential for midair collisions in the PHL terminal area. In addition this action will support the FAA's national airspace redesign goal of optimizing terminal and enroute airspace areas to reduce aircraft delays and improve system capacity.

Costs of the Proposed Action

As described in the NPRM, the costs included the costs of general aviation aircraft that might have to fly further if this action were adopted. However, the FAA believes that any such costs would be minimal because the FAA designed the air space to minimize the effect on aviation users who would not fly in the Class B airspace. In addition the FAA held a series of meetings to solicit comments from people who thought that they might be affected by the proposal. Wherever possible the FAA included the comments from these meetings in the proposal.

Expected Outcome of the Proposal

The FAA received no comments on the FAA's requests for comments on the minimal cost determination. Therefore, the FAA has determined that this final rule is not a “significant regulatory action “as defined in Section 3(f) of Executive 12866, and is not “significant” as defined in DOT's Regulatory Policies and Procedures.

Final Regulatory Flexibility Determination

The Regulatory Flexibility Act of 1980 (Pub. L. 96-354) (RFA) establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions to assure that such proposals are given serious consideration. The RFA covers a wide-range of small entities, including small businesses, not-for-profit organizations and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

In the Initial Regulatory Flexibility Analysis the FAA determined that the proposed rule would improve safety by redefining Class B airspace boundaries and was expected to impose only minimal costs on small entities and asked for comments.

The FAA received no comments on small entity considerations.

Therefore, the FAA Administrator certifies that this rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA assessed the potential effect of this proposed rule in the NPRM and determined that it would have no effect on international trade. The FAA received no comments on this determination.

Therefore, the FAA has determined that this final rule will have no impact on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 3000 Subpart B—Class B Airspace.

* * * * *

AEA PA B Philadelphia, PA [Revised]

Philadelphia International Airport, PA (Primary Airport)

(Lat. 39°52′20″ N., long. 75°14′27″ W.)

Northeast Philadelphia Airport, PA

(Lat. 40°04′55″ N., long. 75°00′38″ W.)

Cross Keys Airport, NJ

(Lat. 39°42′20″ N., long. 75°01′59″ W.)

Boundaries

Area A. That airspace extending upward from the surface to and including 7,000 feet MSL within an 8-mile radius of the Philadelphia International Airport (PHL), excluding that airspace bounded by a line beginning at the intersection of the PHL 8-mile radius and the 002° bearing from PHL, thence direct to lat. 39°56′14″ N., long. 75°12′11″ W., thence direct to lat. 39°55′40″ N., long. 75°08′31″ W., thence direct to the intersection of the PHL 8-mile radius and the 061° bearing from PHL, and that airspace within and underlying Areas B and C hereinafter described.

Area B. That airspace extending upward from 300 feet MSL to and including 7,000 feet MSL, beginning at the east tip of Tinicum Island, thence along the south shore of Tinicum Island to the westernmost point, thence direct to the outlet of Darby Creek at the north shore of the Delaware River, thence along the north shore of the river to Chester Creek, thence direct to Thompson Point, thence along the south shore of the Delaware River to Bramell Point, thence direct to the point of beginning.

Area C. That airspace extending upward from 600 feet MSL to and including 7,000 feet MSL, beginning at Bramell Point, thence along the south shore of the Delaware River to Thompson Point, thence direct to the outlet of Chester Creek at the Delaware River, thence along the north shore of the Delaware River to the 8-mile radius of PHL, thence counterclockwise along the 8-mile radius to the 180° bearing from PHL, thence direct to Bramell Point.

Area D. That airspace extending upward from 1,500 feet MSL to and including 7,000 feet MSL within an 11-mile radius of PHL; and that airspace within 7.5 miles north and south of the Runway 27R localizer course extending from the 11-mile radius to the 15-mile radius east of PHL; excluding that airspace within a 5.8-mile radius of North Philadelphia Airport (PNE), and Areas A, B, and C.

Area E. That airspace extending upward from 2,000 feet MSL to and including 7,000 feet MSL within a 15-mile radius of PHL, excluding that airspace within a 5.8-mile radius of PNE, and that airspace bounded by a line beginning at the intersection of the PHL 15-mile radius and the 141° bearing from PHL, thence direct to the intersection of the Cross Keys Airport (17N) 1.5-mile radius and the 212° bearing from 17N, thence clockwise via the 1.5-mile radius of 17N to the 257° bearing from 17N, thence direct to the intersection of the 17N 1.5-mile radius and the 341° bearing from 17N, thence clockwise via the 1.5-mile radius of 17N to the 011° bearing from 17N, thence direct to the intersection of the PHL 15-mile radius and the 127° bearing from PHL, and Areas A, B, C, and D.

Area F. That airspace extending upward from 3,000 feet MSL to and including 7,000 feet MSL within 7.5 miles north and south of the Runway 9R localizer course extending from the 15-mile radius west of PHL to the 20-mile radius west of PHL; and within 7.5 miles north and south of the Runway 27R localizer course extending from the 8-mile radius east of PHL to the 20-mile radius east of PHL, excluding Area D.

Area G. That airspace extending upward from 3,500 feet MSL to and including 7,000 feet MSL within a 20-mile radius of PHL, excluding that airspace south of a line beginning at the intersection of the PHL 20-mile radius and the 158° bearing from PHL, thence direct to the intersection of the PHL 20-mile radius and the 136° bearing from PHL, and that airspace bounded by a line beginning at the intersection of the PHL 20-mile radius and the 136° bearing from PHL, thence direct to the intersection of the PHL 15-mile radius and the 141° bearing from PHL, thence direct to the intersection of the Cross Keys Airport (17N) 1.5-mile radius and the 212° bearing from 17N, thence clockwise via the 1.5-mile radius of 17N to the 257° bearing from 17N, thence direct to the intersection of the 17N 1.5-mile radius and the 341° bearing from 17N, thence clockwise via the 1.5-mile radius of 17N to the 011° bearing from 17N, thence direct to the intersection of the PHL 15-mile radius and the 127° bearing from PHL, thence direct to the intersection of the PHL 20-mile radius and the 120° bearing from PHL, and Areas A, B, C, D, E and F.

Area H. That airspace extending upward from 4,000 feet MSL to and including 7,000 feet MSL within 7.5 miles north and south of the Runway 9R localizer course extending from the 20-mile radius west of PHL to the 24-mile radius west of PHL; and within 7.5 miles north and south of the Runway 27R localizer course extending from the 20-mile radius east of PHL to the 24-mile radius east of PHL.

Issued in Washington, DC, on April 23, 2013.
Gary A. Norek,
Manager, Airspace Policy and ATC Procedures Group.

BILLING CODE 4910-13-P

[FR Doc. 2013-10811 Filed 5-8-13; 8:45 am]

BILLING CODE 4910-13-C